ENVIRONMENTAL PROTECTION AGENCY

[FRL-8894-4]

Science Advisory Board Staff Office; Notification of a Public Teleconference of the Clean Air Scientific Advisory Committee (CASAC); Particulate Matter Review Panel

AGENCY: Environmental Protection Agency (EPA).

ACTION: Notice.

SUMMARY: The Environmental Protection Agency (EPA) Science Advisory Board (SAB) Staff Office announces a public teleconference of the Clean Air Scientific Advisory Committee Particulate Matter Review Panel (the CASAC PM Review Panel) to review and approve its draft letters on three EPA documents: Integrated Science Assessment for Particulate Matter—First External Review Draft, Dec 2008; PM NAAQS: Scope and Methods Plan for Health 88Risk and Exposure Assessment (February 2009); and PM NAAQS: Scope and Methods Plan for Urban Visibility Impact Assessment (February 2009) developed for the PM National Ambient Air Quality Standards (NAAQS) review.

DATES: The public teleconference will be held on Thursday May 7, 2009 from 1 p.m. to 2 p.m. (Eastern Time).

ADDRESSES: The teleconference will be conducted by telephone only.

FOR FURTHER INFORMATION CONTACT: Any member of the public who wants further information concerning the CASAC public teleconference may contact Dr. Holly Stallworth, Designated Federal Officer (DFO), EPA Science Advisory Board (1400F), U.S. Environmental Protection Agency, 1200 Pennsylvania Avenue, NW., Washington, DC 20460; via telephone/voice mail (202) 343-9867; fax (202) 233-0643; or e-mail at stallworth.holly@epa.gov. General information concerning the CASAC can be found on the EPA Web site at http://www.epa.gov/casac.

SUPPLEMENTARY INFORMATION:

Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App. The CASAC will comply with the provisions of FACA and all appropriate SAB Staff Office procedures.

Section 109(d)(1) of the CAA requires that the Agency periodically review and revise, as appropriate, the air quality criteria and the NAAQS for the six “criteria” air pollutants, including particulate matter (PM). EPA conducts scientific assessments to determine both primary (health-based) and secondary (welfare-based) standards for each of these pollutants.

The CASAC PM Review Panel will hold a public teleconference on May 7, 2009 to review and approve draft letters reviewing three EPA draft documents supporting EPA's review of the PM National Ambient Air Quality Standard: (1) Integrated Science Assessment for Particulate Matter—First External Review Draft, Dec 2008; (2) PM NAAQS: Scope and Methods Plan for Health Risk and Exposure Assessment (February 2009); and (3) PM NAAQS: Scope and Methods Plan for Urban Visibility Impact Assessment (February 2009).

The CASAC PM Panel previously held a public meeting on April 1-2, 2009 (announced in 74 FR 7688-7689) to review these documents. The purpose of the May 7, 2009 teleconference is to review and approve the CASAC PM Panel's draft letters on the above-referenced documents.

Additional information about the CASAC PM panel's review and advice in support of EPA's NAAQS review for PM can be found on the CASAC Web site at http://yosemite.epa.gov/sab/sabproduct.nsf/WebProjectsbyTopicCASAC!OpenView.

Technical Contacts: Any questions concerning EPA's Integrated Science Assessment for Particulate Matter should be directed to Dr. Lindsay Stanek at stanek.lindsay@epa.gov or 919-541-7792. Any questions concerning EPA's Particulate Matter National Ambient Air Quality Standard: Scope and Methods Plan for Health Risk and Exposure Assessment should be directed to Ms. Beth Hassett-Sipple at hassett-sipple.beth@epa.gov or 919-541-4605. Any questions concerning Particulate Matter National Ambient Air Quality Standards: Scope and Methods Plan for Urban Visibility Impact Assessment (February 2009) should be directed to Ms. Vicki Sandiford at sandiford.vicki@epa.gov or 919-541-2629.

Availability of Meeting Materials: The CASAC panel draft reports, teleconference agenda, and other materials for the teleconference will be placed on the CASAC Web site prior to the meeting at http://www.epa.gov/casac. Select the calendar link on the left to access agenda and meeting materials for May 7, 2009. The Integrated Science Assessment for Particulate Matter: First External Review Draft (December 2008) is available at http://cfpub.epa.gov/ncea/cfm/recordisplay.cfm?deid=201805. Both of the PM NAAQS Scope and Methods Plans (February 2009) are available at http://www.epa.gov/ttn/naaqs/standards/pm/s_pm_2007_pd.html.

Procedures for Providing Public Input: Interested members of the public may submit relevant written or oral information for consideration on the topics included in this advisory activity. Oral Statements: To be placed on the public speaker list for the May 7, 2009 teleconference meeting, interested parties should notify Dr. Holly Stallworth, DFO, by e-mail no later than May 1, 2009. Individuals making oral statements will be limited to three minutes per speaker. Written Statements: Written statements for the May 7, 2009 teleconference should be received in the SAB Staff Office by May 1, 2009 so that the information may be made available to the CASAC Panel for its consideration prior to this meeting. Written statements should be supplied to the DFO in the following formats: one hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Stallworth at the phone number or e-mail address noted above, preferably at least ten days prior to the teleconference, to give EPA as much time as possible to process your request.

Dated: April 15, 2009.
Anthony F. Maciorowski,
Deputy Director, EPA Science Advisory Board Staff Office.

[FR Doc. E9-9122 Filed 4-20-09; 8:45 am]

BILLING CODE 6560-50-P